DEPARTMENT OF COMMERCE

National Oceanic and Atmospheric Administration

50 CFR Part 300

[Docket No. 0911201413-1051-02]

RIN 0648-AY38

Pacific Halibut Fisheries; Guided Sport Charter Vessel Fishery for Halibut; Recordkeeping and Reporting

AGENCY: National Marine Fisheries Service (NMFS), National Oceanic and Atmospheric Administration (NOAA), Commerce.

ACTION: Final rule.

SUMMARY: NMFS issues regulations to amend the recordkeeping and reporting requirements for the Pacific halibut guided sport fishery in International Pacific Halibut Commission Regulatory Area 2C (Southeast Alaska) and Area 3A (Central Gulf of Alaska). These regulations revise the Federal requirements for submission of Alaska Department of Fish and Game Saltwater Sport Fishing Charter Trip Logbook data sheets, modify the logbook recording requirements, and add a definition of fishing week. This action is necessary to improve consistency between Federal and State of Alaska requirements for the submission of the logbook data sheets and address recent changes by the State to the logbook reporting format. This action is intended to achieve the halibut fishery management goals of the North Pacific Fishery Management Council and to support the conservation and management provisions of the Northern Pacific Halibut Act of 1982.

DATES: Effective March 9, 2011.

ADDRESSES: Electronic copies of the Categorical Exclusion, the Regulatory Impact Review, and the Final Regulatory Flexibility Analysis prepared for this action may be obtained from http://www.regulations.gov or from the Alaska Region Web site at http://alaskafisheries.noaa.gov.

Written comments regarding the burden-hour estimates or other aspects of the collection of information requirements contained in this rule may be submitted by mail to NMFS, Alaska Region, P.O. Box 21668, Juneau, AK 99802-1668, Attn: Ellen Sebastian, Records Officer; in person at NMFS, Alaska Region, 709 West 9th Street, Room 420A, Juneau, AK; and by e-mail to OIRA_Submission@omb.eop.gov or by fax to (202) 395-7285.

FOR FURTHER INFORMATION CONTACT: Gabrielle Aberle, (907) 586-7228.

SUPPLEMENTARY INFORMATION: The International Pacific Halibut Commission (IPHC) and National Marine Fisheries Service (NMFS) manage fishing for Pacific halibut (Hippoglossus stenolepis) through regulations established under authority of the Northern Pacific Halibut Act of 1982 (Halibut Act). The IPHC promulgates regulations governing the Pacific halibut fishery under the Convention between the United States and Canada for the Preservation of the Halibut Fishery of the North Pacific Ocean and Bering Sea (Convention), signed in Ottawa, Ontario, on March 2, 1953, as amended by a Protocol Amending the Convention (signed in Washington, DC, on March 29, 1979).

Regulations developed by the IPHC are subject to approval by the Secretary of State with concurrence of the Secretary of Commerce (Secretary). After approval by the Secretary of State and the Secretary, the IPHC regulations are published in the Federal Register as annual management measures pursuant to 50 CFR 300.62. The current IPHC annual management measures were published on March 18, 2010 (75 FR 13024). IPHC regulations affecting sport fishing for halibut and charter vessels in Areas 2C (Southeast Alaska) and 3A (Central Gulf of Alaska) may be found in sections 3, 25, and 28 (75 FR 13024; March 18, 2010).

The Halibut Act also provides regulatory authority to the Secretary and the North Pacific Fishery Management Council (Council). The Secretary, under 16 U.S.C. 773c(a) and (b), has the general responsibility to carry out the Convention and the Halibut Act. In adopting regulations that may be necessary to carry out the purposes and objectives of the Convention and the Halibut Act, the Secretary is directed to consult with the Secretary of the department in which the U.S. Coast Guard is operating. Under 16 U.S.C. 773c(c), the Council may develop halibut fishery regulations, for its geographic area of concern, that apply to U.S. nationals or vessels. Such an action by the Council is limited to regulations that are in addition to, and not in conflict with, IPHC regulations. Council-developed regulations may be implemented by NMFS only after approval by the Secretary. Using its authority under the Halibut Act, the Council is developing a regulatory program to manage the guided sport charter vessel fishery for halibut. One step in the development of that program was the implementation of a one-halibut daily bag limit on charter vessel anglers in IPHC Area 2C in order to limit their overall harvest to approximately the established guideline harvest level (74 FR 21194; May 6, 2009).

Background and Need for Action

The final regulations implementing the one-halibut daily bag limit program include recordkeeping and reporting measures codified at 50 CFR 300.65 that require the submission of Alaska Department of Fish and Game (ADF&G) Saltwater Sport Fishing Charter Trip Logbook (charter logbook) data sheets for halibut charter vessels operating in IPHC Areas 2C and 3A (74 FR 21194; May 6, 2009). This action amends these recordkeeping and reporting measures, and is necessary to (1) improve consistency between Federal regulations and State of Alaska (State) logbook instructions for the submission of the data sheets, and (2) address recent changes by the State to the charter logbook reporting format. This action is administrative in nature; it revises the recordkeeping and reporting burden on guided charter operators in IPHC Areas 2C and 3A, reduces potential confusion by the regulated public, and facilitates efficient reporting of halibut caught and retained in these areas.

The proposed rule for this action was published in the Federal Register on April 27, 2010 (75 FR 22070), and the public comment period ended on May 12, 2010. The preamble to the proposed rule describes the need for this action and the proposed regulatory amendments. The final rule makes changes to the proposed regulatory text in response to public comments received on the proposed rule and to clarify the intent of the regulations.

Regulatory Amendments

1. A definition of “Fishing week” is added to § 300.61 for purposes of § 300.65(d). This definition is added to the final rule and is discussed under the heading “Changes from the Proposed Rule.”

2. In § 300.65(d)(1)(i), the location and deadlines for submitting charter logbook data sheets are revised to match State regulations that allow the data sheets to be submitted to any regional or area ADF&G office within a specified amount of time from when the fishing activity occurred. The Federal deadlines are changed from those presented in the proposed rule as a result of comments received, and are further described in the section “Changes from the Proposed Rule.”

3. Paragraph (d)(1)(iii) is added to § 300.65 and replaces paragraphs (d)(2)(iv)(B)(4) and (d)(3) of this section, which are removed. The new paragraph retains the requirement to complete and submit separate logbook data sheets for each regulatory area if halibut were caught and retained in IPHC Regulatory Areas 2C and 3A during the same charter vessel fishing trip. The instruction for recording the IPHC regulatory area fished on the data sheet is revised because of recent changes by the State to the data sheet format. Minor changes were made to the regulatory text presented in the proposed rule as a result of comments received. These changes are described in the section “Changes from the Proposed Rule.”

4. Section 300.65(d)(2)(iv) is revised to clarify recordkeeping and reporting requirements, and to more accurately reflect the intent of this regulation. These revisions were not included in the proposed rule, and are discussed under the heading “Changes from the Proposed Rule.”

5. Two additional revisions are necessary because of the revised data sheet format. The final rule revises the instruction, in § 300.65(d)(2)(iv)(A), regarding the location of the charter vessel angler's signature on the data sheet and eliminates the requirement, in § 300.65(d)(2)(iv)(B)(1), to record the sport fishing operator business license number on the data sheet as the revised data sheet no longer includes this field.

Changes From the Proposed Rule

In the final rule, the following regulatory and technical changes are made from the proposed rule. These changes clarify the Federal regulations and increase consistency between the Federal and State charter logbook recordkeeping and reporting requirements.

1. A definition of “Fishing week” is added to § 300.61. The State's charter logbook submission deadlines are based on the week that the fishing activity occurs for fishing activity conducted on or after the first Monday in April through December 31. Therefore, to ensure consistency between the Federal and State charter logbook submission requirements, a definition of “Fishing week” that corresponds to the State's usage is added to § 300.61 to clarify the Federal submission deadlines specified in § 300.65(d)(1)(i).

2. In response to comments from ADF&G (see comment 1 under “Comments and Responses” section), the charter logbook data sheet submission deadlines in § 300.65(d)(1)(i) are changed to match the State deadlines. These deadlines were implemented previously with the final rule implementing the one-halibut daily bag limit for charter vessel anglers in IPHC Area 2C (74 FR 21194; May 6, 2009). As stated in the preamble to the proposed rule for that final rule, the “logbook data sheets would be required to be submitted to the appropriate ADF&G office according to the time schedule described in the instructions at the beginning of the logbook” (74 FR 78279; December 22, 2008). However, neither the deadlines originally implemented nor the revisions proposed in the proposed rule for this final rule, matched the State's schedule. The instructions and submission schedule in the ADF&G charter logbook require that data sheets be submitted no later than the second Monday in April for fishing activity that occurs prior to the first Sunday in April, and no later than 14 days after the first day of the week in which the fishing activity occurred for fishing activity that occurs on or after the first Monday in April through December 31.

The final rule changes the deadline dates in § 300.65(d)(1)(i) to match the State's deadlines, and changes the event on which the deadlines are based from the date the charter vessel fishing trip ends to when the halibut are caught and retained. Although the phrase “fishing activity” is used in the charter logbook instructions to identify the event that triggers the deadline, the final rule uses “when the halibut were caught and retained,” as the regulations in § 300.65(d) are applicable only to guided halibut fishing. These changes from the proposed rule will not create an additional reporting burden on charter vessel operators because they are already required by the State to meet these deadlines.

3. In response to comments from ADF&G (see comment 3 under “Comments and Responses” section), revisions are made to the regulatory text in § 300.65(d)(1)(iii). These revisions use the language suggested by ADF&G in their letter of comment and do not change the requirements in this paragraph from those presented in the proposed rule. The final rule continues to require that separate charter logbook data sheets be completed for IPHC Area 2C and Area 3A if halibut were caught and retained in both regulatory areas during the same charter vessel fishing trip. The final rule also continues to require that the completed data sheets for each IPHC regulatory area must indicate the primary statistical area in which the halibut were caught and retained.

4. Section 300.65(d)(2)(iv) is revised to clarify the recordkeeping and reporting requirements and to more accurately reflect the intent of this regulation. Paragraph (d)(2)(iv) describes the Federal recordkeeping and reporting requirements that must be complied with by each charter vessel angler and charter vessel guide onboard a vessel in IPHC Area 2C if halibut were caught and retained. These requirements were originally added in the 2009 final rule, which implemented the one-halibut daily bag limit for charter vessel anglers in IPHC Area 2C (74 FR 21194; May 6, 2009). As discussed in the preamble to the proposed rule for that rule, these requirements are necessary to enforce that rule (73 FR 78279; December 22, 2008).

This final rule adds language to the introductory text in paragraph (d)(2)(iv) to specify that these requirements must be complied with by the end of the day or by the end of the charter vessel fishing trip, whichever comes first. As this additional regulatory text is applicable to all of paragraph (iv), paragraphs (d)(2)(iv)(A) and (B) are revised to eliminate redundant language and to clarify the recordkeeping and reporting requirements. The additional text corresponds to requirements in the charter logbook instructions, which specify that the logbook data page must be completed at the end of each trip or, for multiple-day trips, at the end of each day. The additional text is consistent with the original intent of the regulation (74 FR 21194; May 6, 2009). Ensuring that data is recorded contemporaneously or as close as possible to the action being recorded will help enforcement personnel identify violations, and will lead to more reliable logbook data and more accurate estimates of guided charter harvests.

Comments and Responses

The proposed rule was published in the Federal Register on April 27, 2010 (75 FR 22070), with a 15-day comment period that ended on May 12, 2010. NMFS received a total of two letters. One letter was from an individual and contained comments that were outside the scope of this action. The second letter, which was submitted by ADF&G, supported the objectives of this action and recommended changes to the regulatory text. A summary of the comments from ADF&G and NMFS' responses follows.

Comment 1: The proposed rule states, “The submission deadline for a charter vessel fishing trip ending April 5 through December 31, during which halibut were retained, would be extended from 7 to 14 days after the end of the trip.” This change to the submission deadlines for trips ending between April 5 and December 31 would remain inconsistent with state requirements, being more liberal than state regulations whenever a trip ended on a Tuesday through Sunday.

A possible result of implementing these regulatory changes is that charter operators fishing after early April could be cited by the state for overdue logbooks, even though they would be in compliance with Federal submission requirements.

The proposed rule also states, “The submission deadline for data sheets for a charter vessel fishing trip ending February 1 through April 4, during which halibut were retained, would be submitted no later than April 12.” While this requirement is consistent with the ADF&G logbook submission requirements for 2010, it will remain inconsistent in most other years unless regulations are revised annually. ADF&G logbook submission requirements are different early in the year (February 1 through early April) and later in the year (after early April). The cutoff date for this early period is the first Sunday in April; therefore, the date can change every year.

Charter operators fishing in early April could be cited under state or Federal rules during most years when state and Federal logbook submission deadlines are inconsistent.

Response: NMFS agrees with the comment. As one objective of this rule is to improve consistency between Federal and State charter logbook data sheet submission requirements, this final rule revises the Federal deadlines in § 300.65(d)(1)(i) to match the State deadlines. A definition of “Fishing week” is added in § 300.61 to clarify the deadlines for submitting the data sheets. These changes are described in the section “Changes from the Proposed Rule.”

Comment 2: ADF&G revised statistical areas along the boundary between IPHC Regulatory Areas 2C and 3A so that regulatory areas where halibut were caught and retained can be identified. ADF&G updated the maps to reflect the revised statistical areas, and has been distributing the updated maps with logbooks to Southeast Alaska charter operators. Charter businesses are being advised to use only maps with the year 2010 printed on them.

Response: NMFS notes that ADF&G has updated the statistical area maps and is distributing these to Southeast Alaska charter operators. As described in the proposed rule, because the updated charter logbook maps are available to charter vessel operators, this rule removes § 300.65(d)(2)(iv)(B)(4) and § 300.65(d)(3) and adds § 300.65(d)(1)(iii) to instruct how to record halibut caught and retained in IPHC Regulatory Areas 2C and 3A.

Comment 3: The proposed rule states, “This paragraph [§ 300.65(d)(1)(iii)] would require the charter vessel guide to record on the charter vessel logbook data sheets the primary ADF&G statistical area where halibut were caught and retained.” The requirement that all operators in Area 2C or Area 3A report the statistical area where halibut were caught contradicts the instructions and examples provided in the 2010 ADF&G charter logbook. ADF&G logbook instructions require operators to report the statistical area where most of the salmon or bottomfish (not halibut specifically) were caught or targeted. Operators are instructed to report a salmon statistical area if salmon were targeted, a bottomfish statistical area if bottomfish were targeted, and both a salmon and bottomfish statistical area if both were targeted. Operators are not required under State rules to report the statistical area where halibut or any other bottomfish are caught incidentally while targeting salmon. State rules do not require operators to report the statistical area of halibut harvest specifically. In many, but not all cases, halibut are likely to be the primary bottomfish species caught.

For example, if a vessel targets salmon but incidentally catches a few halibut, the operator is instructed to report the primary statistical area where salmon were targeted, and the number of boat hours fished for salmon. They are not required to report the statistical area of the halibut harvest. Likewise, if a vessel targeted lingcod and a few halibut were caught incidentally, the operator would be required to report the primary statistical area where most bottomfish (not specifically halibut) were targeted. In many cases it would be the same statistical area, but not necessarily so.

Response: Section 300.65(d)(1)(iii) requires that if halibut are caught and retained in IPHC regulatory Area 2C and Area 3A during the same charter vessel fishing trip, a separate charter logbook data sheet must be completed for each IPHC regulatory area, to record the halibut kept in each IPHC regulatory area. As the State's revisions to the data sheet eliminated the field to record the IPHC regulatory area, § 300.65(d)(1)(iii) requires that the data sheets for each IPHC regulatory area must indicate the primary statistical area where the halibut were caught and retained. This information is necessary to identify the IPHC regulatory area where the halibut were caught and retained. The final rule revises § 300.65(d)(1)(iii) to use regulatory language suggested by ADF&G in their letter of comment, but does not change the requirements in this paragraph from those presented in the proposed rule.

Comment 4: ADF&G supports the requirement for vessels that harvest halibut in both Area 2C and Area 3A on a given trip to complete a separate logbook page for each regulatory area to associate halibut harvest with the appropriate IPHC regulatory area. This requirement is included on page vi of the 2010 ADF&G charter logbook instructions.

Response: NMFS notes the support for this requirement.

Classification

Regulations governing the U.S. fisheries for Pacific halibut are developed by the IPHC, the Pacific Fishery Management Council, the Council, and the Secretary. Section 5 of the Halibut Act allows the Regional Council having authority for a particular geographical area to develop regulations governing the allocation and catch of halibut in U.S. Convention waters as long as those regulations do not conflict with IPHC regulations. The Halibut Act at section 773c(a) and (b) provides the Secretary with the general responsibility to carry out the Convention with the authority to, in consultation with the Secretary of the department in which the U.S. Coast Guard is operating, adopt such regulations as may be necessary to carry out the purposes and objectives of the Convention and the Halibut Act. The Secretary has delegated his Halibut Act authority to NMFS. This action is consistent with the North Pacific Halibut Act and other applicable laws.

Executive Order 12866

This final rule has been determined to be not significant for the purposes of Executive Order 12866.

Regulatory Flexibility Act

A final regulatory flexibility analysis (FRFA) was prepared, which describes the economic impact of this final rule on small entities. The FRFA incorporates the initial regulatory flexibility analysis (IRFA), a summary of the significant issues raised by the public comments in response to the IRFA and NMFS' responses to those comments, if any, and a summary of the analyses completed to support the action. A copy of the FRFA is available from NMFS (see ADDRESSES). A description of this action, why it is being considered, and the legal basis for this action are contained at the beginning of this section in the preamble and in the SUMMARY section of the preamble.

The IRFA was described in the Classification section to the proposed rule, and the public was notified of how to obtain a copy of the IRFA. The public comment period ended on May 12, 2010. No comments were received on the IRFA or on the economic impacts of the rule.

This action increases consistency between Federal and State charter logbook recordkeeping and reporting requirements for halibut charter vessels operating in IPHC Area 2C and Area 3A and is expected to impose de minimis costs. The only substantive change (modification of regulatory limits on directly regulated entities) revises requirements on the location and time frame for submission of logbook data sheets for charter vessel fishing trips during which halibut were caught and retained.

This action only affects halibut charters operating in IPHC Area 2C and Area 3A. Based on State charter logbook data, NMFS estimates that 404 business entities will be directly regulated by this action in Area 2C, and that 450 business entities will be directly regulated by this action in Area 3A. The Secretary has published a final rule that will implement limited entry in the Pacific halibut guided sport charter fisheries in Areas 2C and 3A (75 FR 554, January 5, 2010). NMFS expects that when the limited entry program is fully implemented in 2011, the number of business entities directly regulated by this action will be 231 in Area 2C and 296 in Area 3A.

The largest of these business entities, which are lodges, may be large entities under Small Business Act (SBA) standards, but that determination cannot be empirically confirmed at present. Therefore, these operations are treated as small entities for the purpose of this analysis. All the other charter operations are also considered small entities, based on SBA criteria, since they are believed to have gross revenues of less than $7.0 million on an annual basis, from all sources, including affiliates.

The FRFA did not identify any new projected reporting, recordkeeping, and other compliance requirements associated with these regulatory changes. It is expected that by conforming the Federal regulatory requirements with those of the State, affected entities will see increased efficiencies and decreased costs of compliance for both sets of rules.

The FRFA did not reveal any Federal rules that duplicate, overlap, or conflict with the proposed action.

There is no alternative to the proposed action that would accomplish its goals of conservation of the halibut resource and that would have a smaller burden on directly regulated small entities. Of the two alternatives considered, this action and status quo, the regulatory burden under status quo would be higher because the public would need to comply with two different sets of regulatory requirements. This action reduces the regulatory burden by increasing consistency between the Federal and State recordkeeping and reporting requirements, which minimizes the potential negative impacts that could arise under status quo.

Small Entity Compliance Guide

Section 212 of the Small Business Regulatory Enforcement Fairness Act of 1996 states that, for each rule or group of related rules for which an agency is required to prepare a FRFA, the agency shall publish one or more guides to assist small entities in complying with the rule, and shall designate such publications as “small entity compliance guides.” The agency shall explain the actions a small entity is required to take to comply with a rule or group of rules. As part of this rulemaking process, NMFS Alaska Region has developed an Internet site that provides easy access to details of this final rule, including a link to the final rule and links to additional information and regulations applicable to guided sport fishing for halibut in Alaska. The relevant information available on the Web site is the Small Entity Compliance Guide. The Web site address is http://www.alaskafisheries.noaa.gov/sustainablefisheries/halibut/sport.htm. Copies of this final rule are available upon request from the NMFS Alaska Regional Office (see ADDRESSES).

Collection of Information

This final rule contains a collection of information requirement subject to the Paperwork Reduction Act (PRA), which has been approved by the Office of Management and Budget (OMB) under control number 0648-0575. The public reporting burden for charter vessel guide respondents to fill out and submit logbook data sheets is estimated to average four minutes per response. The public reporting burden for charter vessel anglers to sign the logbook is estimated to be one minute per response. These estimates include the time required for reviewing instructions, searching existing data sources, gathering and maintaining the data needed, and completing and reviewing the collection of information. Send comments regarding these burden estimates or any other aspect of this data collection, including suggestions for reducing the burden, to NMFS (see ADDRESSES) and by e-mail to OIRA_Submission@omb.eop.gov or fax to (202) 395-7285.

Notwithstanding any other provision of the law, no person is required to respond to, nor shall any person be subject to a penalty for failure to comply with, a collection of information subject to the requirements of the PRA, unless that collection of information displays a currently valid OMB control number.

List of Subjects in 50 CFR Part 300

Administrative practice and procedure, Antarctica, Canada, Exports, Fish, Fisheries, Fishing, Imports, Indians, Labeling, Marine resources, Reporting and recordkeeping requirements, Russian Federation, Transportation, Treaties, Wildlife.

Dated: February 2, 2011.
Samuel D. Rauch III,
Deputy Assistant Administrator for Regulatory Programs, National Marine Fisheries Service.

For the reasons set out in the preamble, 50 CFR part 300 is amended as follows:

PART 300—INTERNATIONAL FISHERIES REGULATIONS

Subpart E—Pacific Halibut Fisheries

1. The authority citation for 50 CFR part 300, subpart E, continues to read as follows:

Authority: 16 U.S.C. 773-773k.

2. In § 300.61, add a definition for “Fishing week” in alphabetical order to read as follows:

§ 300.61 Definitions.

* * * * *

Fishing week, for purposes of § 300.65(d), means a time period that begins at 0001 hours, A.l.t., Monday morning and ends at 2400 hours, A.l.t., the following Sunday night.

* * * * *

3. In § 300.65:

a. Remove paragraphs (d)(2)(iv)(B)(1), (d)(2)(iv)(B)(4), and (d)(3);

b. Redesignate paragraphs (d)(2)(iv)(B)(2), (d)(2)(iv)(B)(3), (d)(2)(iv)(B)(5), (d)(2)(iv)(B)(6), (d)(2)(iv)(B)(7), and (d)(2)(iv)(B)(8), as (d)(2)(iv)(B)(1), (d)(2)(iv)(B)(2), (d)(2)(iv)(B)(3), (d)(2)(iv)(B)(4), (d)(2)(iv)(B)(5), and (d)(2)(iv)(B)(6), respectively;

c. Revise paragraphs (d)(1)(i), (d)(2)(iv) introductory text, (d)(2)(iv)(A), (d)(2)(iv)(B) introductory text, newly redesignated paragraph (d)(2)(iv)(B)(4), and newly redesignated paragraph (d)(2)(iv)(B)(5); and

d. Add paragraph (d)(1)(iii) to read as follows:

§ 300.65 Catch sharing plan and domestic management measures in waters in and off Alaska.

* * * * *

(d) Charter vessels in Area 2C and Area 3A—(1) General requirements—(i) Logbook submission. For a charter vessel fishing trip during which halibut were caught and retained on or after the first Monday in April and on or before December 31, Alaska Department of Fish and Game (ADF&G) Saltwater Sport Fishing Charter Trip Logbook data sheets must be submitted to the ADF&G and postmarked or received no later than 14 calendar days after the Monday of the fishing week (as defined in 50 CFR 300.61) in which the halibut were caught and retained. Logbook sheets for a charter vessel fishing trip during which halibut were caught and retained on January 1 through the first Sunday in April, must be submitted to the ADF&G and postmarked or received no later than the second Monday in April.

* * * * *

(iii) If halibut were caught and retained in IPHC Regulatory Area 2C and Area 3A during the same charter vessel fishing trip, then a separate Alaska Department of Fish and Game Saltwater Sport Fishing Charter Trip Logbook data sheet must be completed and submitted for each IPHC regulatory area to record the halibut caught and retained within that IPHC regulatory area. The completed logbook sheets for each IPHC regulatory area must indicate the primary statistical area in which the halibut were caught and retained.

(2) * * *

(iv) Recordkeeping and reporting requirements in Area 2C. Each charter vessel angler and charter vessel guide onboard a vessel in Area 2C must comply with the following recordkeeping and reporting requirements (see paragraphs (d)(2)(iv)(A) and (B) of this section) by the end of the day or by the end of the charter vessel fishing trip, whichever comes first:

(A) Charter vessel angler signature requirement. Each charter vessel angler who retains halibut caught in Area 2C must acknowledge that his or her information and the number of halibut retained (kept) are recorded correctly by signing the Alaska Department of Fish and Game Saltwater Sport Fishing Charter Trip Logbook data sheet on the line number that corresponds to the angler's information.

(B) Charter vessel guide requirements. If halibut were caught and retained in Area 2C, the charter vessel guide must record the following information (see paragraphs (d)(2)(iv)(B)(1) through (6) of this section) in the Alaska Department of Fish and Game Saltwater Sport Fishing Charter Trip Logbook:

* * * * *

(4) Number of halibut retained. For each charter vessel angler, record the number of halibut caught and retained.

(5) Signature. Acknowledge that the recorded information is correct by signing the logbook data sheet.

* * * * *

[FR Doc. 2011-2641 Filed 2-4-11; 8:45 am]

BILLING CODE 3510-22-P